DEPARTMENT OF AGRICULTURE

Risk Management Agency

Notice of Request for Approval of an Information Collection

AGENCY: Risk Management Agency, USDA.

ACTION: New information collection; comment request.

SUMMARY: In accordance with the Paperwork Reduction Act of 1995, this notice announces the intention of the Risk Management Agency (RMA) to request approval for the information collection projects listed in the Abstract of this document.

DATES: Written comments on this notice will be accepted until close of business April 22, 2002.

ADDRESSES: Interested persons are invited to submit written comments to: Lydia M. Astorga, Risk Management Education Division, USDA/RMA, 1400 Independence Avenue, SW, Stop 0808, Portals Building, Suite 508, Washington, DC 20250-0808. Or electronically to: Lydia_Astorga@wdc.usda.gov.

FOR FURTHER INFORMATION CONTACT: To request additional information on the proposed collection of information contact: Lydia M. Astorga, Risk Management Education Division, USDA/RMA, Stop 0808, 1400 Independence Ave., SW, Washington, D.C. 20250-0808, or call (202) 260-4728.

SUPPLEMENTARY INFORMATION:

Title: Agricultural Risk Management Education and Information.

OMB Number: 0563-NEW.

Type of Request: New information collection.

Abstract: The Federal Crop Insurance Act directs the Federal Crop Insurance Corporation, operating through RMA, to (a) establish crop insurance education and information programs in States that have been historically underserved by the Federal crop insurance program (7 U.S.C. 1524(a)(2)); and (b) provide agricultural producers with training opportunities in risk management, with a priority given to producers of specialty crops and underserved commodities (7 U.S.C. 1522(d)(3)(F)). With this submission, RMA seeks to obtain OMB's generic approval for four information collection projects that will assist RMA in operating and evaluating these programs. The four information collection projects are: (1) Request for Applications; (2) Performance Reporting; (3) Training Session Evaluation; and (4) Needs Assessment. The primary objectives of the four information collection projects are, respectively, to: (1) Enable RMA to better evaluate the performance capacity and plans of organizations that are applying for funds for cooperative and partnership agreements; (2) document the scope of activities conducted by the recipients of Federal educational funding; (3) assess the effectiveness of individual educational activities; and (4) provide program managers and policy makers with information regarding the effectiveness of educational programs in underserved States. We are asking the Office of Management and Budget (OMB) to approve this information collection activity for 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average: 8 hours per response for agri-business professionals, for a total of 5,904 hours AND 15 minutes per response for producers, for a total of 21 hours.

Respondents/Affected Entities: Agribusiness professionals and agricultural producers.

Estimated annual number of respondents: 19,450 respondents (2,950 agribusiness professionals and 16,500 agricultural producers).

Estimated annual number of responses: 19,450 responses or 1 per respondent.

Estimated total annual burden on respondents: 5,925 hours (5,904 hours for agribusiness professionals and 21 hours for agricultural producers).

All responses to this notice will be summarized and included in the request for OMB approval. All comments will also become a matter of public record.

Signed in Washington, DC, on February 12, 2002.
Phyllis W. Honor,
Acting Manager, Federal Crop Insurance Corporation.

[FR Doc. 02-4102 Filed 2-20-02; 8:45 am]

BILLING CODE 3410-08-P